DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB's) revision of a current information collection. The Federal Register Notice with a 60-day comment period soliciting comments on the following collection of information was published on April 23, 2009, vol. 74, no. 77, page 18604. Pursuant to Public Law 104-50, the FAA has implemented an acquisition management system that addresses the unique needs of the agency. This document established the policies and internal procedures for the FAA's acquisition system.

DATES: Please submit comments by July 31, 2009.

FOR FURTHER INFORMATION CONTACT: Carla Mauney at Carla.Mauney@faa.gov.

SUPPLEMENTARY INFORMATION:

Federal Aviation Administration (FAA)

Title: FAA Acquisition Management System (FAAAMS) Including ARRA Requirements.

Type of Request: Extension without change of a currently-approved collection.

OMB Control Number: 2120-0595.

Form(s) available at: http://fast.faa.gov/docs/forms.

Affected Public: An estimated 15,298 Respondents

Frequency: This information is collected on occasion.

Estimated Average Burden per Response: Approximately 7.5 hours per response.

Estimated Annual Burden Hours: An estimated 2,003,059 hours annually.

Abstract: Pursuant to Public Law 104-50, the FAA has implemented an acquisition management system that addresses the unique needs of the agency. This document established the policies and internal procedures for the FAA's acquisition system. This collection includes burden requirements per the American Recovery and Reimbursement Act of 2009 (ARRA).

ADDRESSES: Interested persons are invited to submit written comments on the proposed information collection to the Office of Information and Regulatory Affairs, Office of Management and Budget. Comments should he addressed to the attention of the Desk Officer, Department of Transportation/FAA, and sent via electronic mail to oira_submission@omb.eop.gov, or faxed to (202) 395-6974, or mailed to the Office of Information and Regulatory Affairs, Office of Management and Budget, Docket Library, Room 10102, 725 17th Street, NW., Washington, DC 20503.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on June 23, 2009.
Carla Mauney,
FAA Information Collection Clearance Officer, IT Enterprises Business Services Division, AES-200.

[FR Doc. E9-15392 Filed 6-30-09; 8:45 am]

BILLING CODE 4910-13-M